ENVIRONMENTAL PROTECTION AGENCY

[ER-FRL-6683-7]

Environmental Impact Statements and Regulations; Availability of EPA Comments

Availability of EPA comments prepared pursuant to the Environmental Review Process (ERP), under section 309 of the Clean Air Act and Section 102(2)(c) of the National Environmental Policy Act, as amended. Requests for copies of EPA comments can be directed to the Office of Federal Activities at 202-564-7167. An explanation of the ratings assigned to draft environmental impact statements (EISs) was published in FR dated April 7, 2006 (71 FR 17845).

Draft EISs

EIS No. 20060355, ERP No. D-MMS-A02244-00,Outer Continental Shelf Oil & Gas Leasing Program: 2007-2012, Exploration and Development Offshore Marine Environment and Coastal Counties of AL, AK, DE, FL, LA, MD, MS, NJ, NC, TX and VA. Summary: EPA expressed environmental concerns about cumulative impacts and mitigation. Rating EC2.

EIS No. 20060378, ERP No. D-NPS-A84030-00,Programmatic—Service-wide Benefits Sharing Project, To Clarify the Rights and Responsibilities of Researchers and National Park Service (NPS) Management in Connection with the Use of Valuable Discoveries, Inventions, and Other Developments, across the United States. Summary: EPA does not object to the preferred alternative. Rating LO.

EIS No. 20060413, ERP No. D-FTA-E59003-FL,Programmatic—South Florida East Coast Corridor Transit Analysis Study Tier 1, To Address Transportation Demand, Miami-Dade, Broward and Palm Beach Counties, FL. Summary: EPA expressed environmental concerns about the impacts to aquatic resources (wetlands, streams, sole source aquifers, and aquatic preserves), communities, archeological and historic properties, and contaminated sites, and noise impacts. Rating EC2.

EIS No. 20060415, ERP No. D-USA-J11023-CO,Fort Carson Transformation Program, Implementation, Base Realignment and Closure Activities, Fort Carson, El Paso, Pueblo and Fremont Counties, CO. Summary: EPA expressed environmental concerns about impacts to water quality, air quality and biological resources, and requested additional information on these impacts and mitigation measures to reduced impacts. Rating EC2.

EIS No. 20060437, ERP No. D-NRS-D36122-WV,Dunloup Creek Watershed Plan, Voluntary Floodplain Buyout, Implementation, West Virginia Third Congressional District, Fayette and Raleigh Counties, WV. Summary: EPA does not object to the proposed action. Rating LO.

EIS No. 20060440, ERP No. D-GSA-D81037-VA,Federal Bureau of Investigation (FBI) Central Records Complex, Site Selection and Construction, Winchester, Frederick County, VA. Summary: EPA expressed environmental concern about potential water resource impacts. Rating EC1.

EIS No. 20060455, ERP No. D-WPA-K05063-AZ,San Luis Rio Colorado Project, Construct, Operate, Maintain, and Connect a Double-Circuited 500,000-volt Electric Transmission Line, Right-of-Way Grant and Presidential Permit, (DOE/EIS-0395) Yuma County, AZ. Summary: EPA does not object to the proposed action. Rating LO.

EIS No. 20060475, ERP No. D-SFW-G64013-TX,Texas Chenier Plain National Wildlife Refuge Complex, Development of a 15-Year Management Plan (Comprehensive Conservation Plan) for Refuge Complex, and Expansion of the Approval Land Acquisition Boundaries (Land Protection Plan) for the Four Refuges: Moody, Anahuac, McFaddin and Texas Point National Wildlife Refuges, Chambers, Jefferson and Galveston Counties, TX. Summary: EPA does not object to the preferred alternative. Rating LO.

EIS No. 20060478, ERP No. D-COE-K39102-CA,Success Dam Seismic Remediation Dam Safety Project, Proposes To Remediate Deficiencies in the Dam's Foundation, Tulare River, Tulare County, CA. Summary: EPA expressed environmental concerns about impacts to air quality and aquatic resources, and requested additional information on the alternatives analysis and mitigation for impacts to water resources and fisheries. Rating EC2.

EIS No. 20060494, ERP No. D-DOE-D09801-WV, Western Greenbier Co-Production Demonstration Project, Construction and Demonstration of a 98 megawatt (MWe) Net Power Plant and Ash Byproduct Manufacturing Facility, Rainelle, WV. Summary: EPA expressed environmental concerns about water resource impacts, coal refuse pile restoration activity, and ash management. Rating EC2.

EIS No. 20060247, ERP No. DS-FTA-E40775-FL, Miami North Corridor Project, Updated Information, Transit Improvement between NW 62 Street at Dr. Martin Luther King Jr. Station and NW 215th Street at the Dade/Broward Counties Line, Funding, Dade County, FL. Summary: EPA expressed environmental concerns about noise and contamination impacts as well as impacts related to relocations. In addition, EPA recommends that mitigation measures be documented in the FEIS as project commitments. Rating EC2.

Final EIS's

EIS No. 20060491, ERP No. F1-FHW-L40194-WA,WA-167 Freeway Project, Construction, from 161 (Meridan Street North) in the City of Puyallup to the WA-509 Freeway in the City of Tacoma, Funding, U.S. Coast Guard, NPDES, U.S. Army COE Section 10 and 404 Permits, Cities of Puyallup, Fife, Edgewood, Milton, and Tacoma, Pierce County, WA. Summary: EPA continues to have environmental concerns about loss of prime farmland, and impacts to listed fish species, water quality, and wildlife habitat connectivity. EPA has further concerns about noise, air toxics, and environmental justice and tribal issues.

EIS No. 20060433, ERP No. F-NOA-L91027-00, Pacific Coast Groundfish Fishery Management Plan, Proposed Acceptable Biological Catch and Optimum Yield Specifications and Management Measures for the 2007-2008 Pacific Coast Groundfish Fishery and Amendment 16-4 Rebuilding Plans for Seven Depleted Pacific Coast Groundfish Species, WA, OR and CA. Summary: No formal comment letter was sent to the preparing agency.

EIS No. 20060487, ERP No. F-AFS-K65315-CA, South Yuba Canal Maintenance Project, Hazardous Trees Removal, Implementation, Tahoe National Forest, Nevada County, CA. Summary: No formal comment letter was sent to the preparing agency.

EIS No. 20060489, ERP No. F-COE-F32198-00, Lock and Dam 3 Mississippi River Navigation Safety and Embankments, To Reduce Related Navigation Safety and Embankment Problems, Upper Mississippi River, Goodhue County, MN and Pierce County, WI. Summary: EPA's original concerns about proposed mitigation monitoring, water quality, and conclusions with cumulative impact analysis have been adequately addressed; therefore, we do not object to the proposed project.

EIS No. 20060504, ERP No. F-IBR-K39095-CA, South Delta Improvements Program, To Improve Water Quality, Water Conveyance, and Fish Habitat Conditions, Central Valley Project, U.S. Army COE Section 404 Permit, South Sacramento-San Joaquin River Delta, Several Counties, CA. Summary: EPA supports the staged decision-making process between Stage 1 physical construction and Stage 2 operational actions. EPA provided recommendations for Stage 2 analyses, and urged undertaking a public process to scope key issues for the Stage 2 document. EPA emphasized the need to evaluate, and avoid, water quality impacts of gate operations and analysis of alternatives that meet the basic project purpose as part of the continuing Clean Water Act permitting process.

EIS No. 20060511, ERP No. F-DOE-G03030-00,Strategic Petroleum Reserve Expansion, Site Selection of Five New Sites: Chacahoula and Clovelly, in Lafourche Parish, LA; Burinsburg, Claiborne County, MS; Richton, Perry County, MS; and Stratton Ridge, Brazoria County, TX and Existing Site Bayou Choctaw, Iberville Parish, LA, West Hackberry, Cameron and Calcasieu Parishes, LA; and Big Hill, Jefferson County, TX. Summary: No formal comment letter was sent to the preparing agency.

EIS No. 20060527, ERP No. F-AFS-F65065-WI, Long Rail Vegetation and Transportation Management Project, Implementation, Eagle River-Florence Ranger District, Chequamegon-Nicolet National Forest, Florence and Forest Counties, WI. Summary: The Final EIS addressed EPA's comments relating to consistency with the Forest Management Plan; we support continued monitoring of Regional Forester Sensitive Species as part of the Forest's environmental management system. EPA does not object to the proposed action.

Dated: January 30, 2007.
Robert W. Hargrove,
Director, NEPA Compliance Division, Office of Federal Activities.

[FR Doc. E7-1728 Filed 2-1-07; 8:45 am]

BILLING CODE 6560-50-P